DEPARTMENT OF HOMELAND SECURITY

Federal Emergency Management Agency

Agency Information Collection Activities: Submission for OMB Review; Comment Request

AGENCY: Federal Emergency Management Agency, DHS.

ACTION: Notice; 30-day notice and request for comments; Revision of a currently approved collection, OMB No. 1660-0017, FEMA Forms 90-49, 90-91, 90-91A, 90-91B, 90-91C, 90-91D, 90-120, 90-121, 90-123, 90-124, 90-125, 90-126, 90-127, and 90-128.

SUMMARY: The Federal Emergency Management Agency (FEMA) has submitted the following information collection to the Office of Management and Budget (OMB) for review and clearance in accordance with the requirements of the Paperwork Reduction Act of 1995. The submission describes the nature of the information collection, the categories of respondents, the estimated burden (i.e., the time, effort and resources used by respondents to respond) and cost, and includes the actual data collection instruments FEMA will use. FEMA is revising this collection to include the increase in public assistance requests anticipated due to the increase in number and scope of disaster declarations.

Collection of Information

Title: Public Assistance Progress Report and Program Forms.

OMB Number: 1660-0017.

Abstract: FEMA is collecting information from affected public of state, local and tribal governments that requests funds to provide services to the public after a disaster occurs. FEMA will be provided documentation that makes known the request for a grant, the worksheets that provide details on how the grants will be used, where the grant monies will be utilized, and the resources used in providing the assistance. Data from this collection will directly result in a determination of the awarding of grant monies for public assistance to a state.

Affected Public: State, local and tribal governments.

Number of Respondents: 53. The total number of respondents of 5,070 previously reported in the 60-day Federal Register Notice at 73 FR 27546, May 13, 2008 was incorrectly identified.

Estimated Time per Respondent: 3,489. The estimated time per respondent of 134.25 hours previously reported in the 60-day Federal Register Notice at 73 FR 27546, May 13, 2008 is now corrected due to the change in the number of respondents.

Estimated Total Annual Burden Hours: 139,222. The total annual burden hours of 134,562 previously reported in the 60-day Federal Register Notice at 73 FR 27546, May 13, 2008 has been increased.

Frequency of Response: On occasion.

Comments: Interested persons are invited to submit written comments on the proposed information collection to the Office of Information and Regulatory Affairs, Office of Management and Budget. Comments should be addressed to Desk Officer for the Department of Homeland Security, Federal Emergency Management Agency, and sent via electronic mail to oira.submission@omb.eop.gov or faxed to (202) 395-6974. Comments must be submitted on or before September 22, 2008.

FOR FURTHER INFORMATION CONTACT: Requests for additional information or copies of the information collection should be made to Director, Records Management Division, 500 C Street, SW., Washington, DC 20472, Mail Drop Room 301, facsimile number (202) 646-3347, or e-mail address FEMA-Information-Collections@dhs.gov.

Dated: August 14, 2008.
John A. Sharetts-Sullivan,
Director, Records Management Division, Office of Management, Federal Emergency Management Agency, Department of Homeland Security.

[FR Doc. E8-19605 Filed 8-21-08; 8:45 am]

BILLING CODE 9110-10-P